FEDERAL COMMUNICATIONS COMMISSION

Sunshine Act Meeting; Open Commission Meeting Wednesday, June 20, 2001

June 13, 2001.

The Federal Communications Commission will hold an Open Meeting on the subjects listed below on Wednesday, June 20, 2001, which is scheduled to commence at 9:30 a.m. in Room TW-C305, at 445 12th Street, SW., Washington, DC.

Item No. | Bureau | Subject
1 | Cable Services | Title: Annual Assessment of the Status of Competition in the Market for the Delivery of Video Programming. Summary: The Commission will consider a Notice of Inquiry seeking information and comment for the Eighth Annual Report to Congress on the status of competition in the market for the delivery of video programming.
2. | Wireless Telecommunications | Title: Implementation of Section 6002(b) of the Omnibus Budget Reconciliation Act of 1993—Annual Report and Analysis of Competitive Market Conditions with Respect to Commercial Mobile Services. Summary: The Commission will consider a Sixth Report concerning the status of competition in the commercial mobile wireless industry.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netcom.com. Their Internet address is http://www.itsdocs.com/.

This meeting can be viewed over George Mason University's Capitol Connection. The Capitol Connection also will carry the meeting live via the Internet. For information on these services call (703) 993-3100. The audio portion of the meeting will be broadcast live on the Internet via the FCC's Internet audio broadcast page at http://www.fcc.gov/realaudio. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
Magalie Roman Salas,
Secretary.

[FR Doc. 01-15438 Filed 6-14-01; 4:24 pm]

BILLING CODE 6712-01-M